DEPARTMENT OF DEFENSE

Department of the Army, U.S. Army Corps of Engineers

Announcement of the Selection of the Ten Pilot Projects Pursuant to Section 1122 of the Water Resources Development Act of 2016, Beneficial Use of Dredged Material

AGENCY: U.S. Army Corps of Engineers, DoD.

ACTION: Announcement.

SUMMARY: Section 1122 of the Water Resources Development Act (WRDA) of 2016 requires the U.S. Army Corps of Engineers (USACE) establish a pilot program to recommend ten projects for the beneficial use of dredged material. In response to a Federal Register Notice issued on February 9, 2018, the USACE received 95 proposals for beneficial use of dredged material. Those 95 proposals were evaluated by a team of subject matter experts. Based on criteria contained in Section 1122, ten projects were selected as having a high likelihood of delivering environmental, economic, and social benefits described in the proposals, and exhibit geographic diversity.

ADDRESSES: An Environmental Assessment and Findings of No Significant Impact (EA/FONSI) were prepared for this action and are available upon email request sent to: Section-1122-Beneficial-Use-Of-Dredged-Material@usace.army.mil.

FOR FURTHER INFORMATION CONTACT: Mr. Joseph R. Wilson, Environmental Dredging Program Manager, at 202-761-7697, or email: joseph.r.wilson@usace.army.mil.

SUPPLEMENTARY INFORMATION: Section 1122 of WRDA 2016 requires the USACE establish a pilot program to carry out 10 projects for the beneficial use of dredged material, including projects for the purposes of—

(1) Reducing storm damage to property and infrastructure;

(2) promoting public safety;

(3) protecting, restoring, and creating aquatic ecosystem habitats;

(4) stabilizing stream systems and enhancing shorelines;

(5) promoting recreation;

(6) supporting risk management adaptation strategies; and

(7) reducing the costs of dredging and dredged material placement or disposal, such as projects that use dredged material for—

(A) Construction or fill material;

(B) civic improvement objectives; and

(C) other innovative uses and placement alternatives that produce public economic or environmental benefits.

The USACE has developed implementation guidance for carrying out the provisions of Section 1122. That implementation guidance can be obtained at http://www.usace.army.mil/Missions/Civil-Works/Project-Planning/Legislative-Links/wrda2016/wrda2016_impguide. Search Section 1122(a)-(h) for links to the implementation guidance and other Section 1122 information.

The ten recommended projects, listed alphabetically by state/territory follow:

CA | Restoring San Francisco Bay's Natural Infrastructure with Dredged Sediment: Strategic Placement.
HI | Haleiwa Small Boat Harbor Maintenance Dredging and Beach Restoration.
IL | Public Beach Protection Pilot in Four Illinois Coastal Communities.
MS | Deer Island Lagoon Project.
NJ | Beneficial Use Placement Opportunities in the State of New Jersey Using Navigation Channel Sediments: Barnegat Inlet.
PR | Condado Lagoon.
SC | Crab Bank Seabird Sanctuary.
TX | Hickory Cove Marsh Restoration and Living Shoreline.
WA | Grays Harbor South Jetty Sand Placement Pilot Project.
WI | Mississippi River Upper Pool 4, Pierce County Islands and Head of Lake Pepin Backwater Complex—Beneficial Use of Dredged Material.

The USACE process for evaluating all of the 95 proposals received and the decision to select the 10 projects is documented in the EA/FONSI. Further project specific evaluation of the 10 selected projects will be accomplished by the appropriate USACE office in accordance with Section 1122 implementation guidance and applicable USACE policies and regulations.

Dated: December 18, 2018.
Thomas P. Smith,
Chief, Operations and Regulatory Division, U.S. Army Corps of Engineers.

[FR Doc. 2018-28306 Filed 12-27-18; 8:45 am]

BILLING CODE 3720-58-P